DEPARTMENT OF THE INTERIOR

Bureau of Land Management

[NV-040-1430-EU, N-51513]

Notice of Penalty Action

AGENCY: Bureau of Land Management, Interior.

ACTION: Notice of Realty Action.

SUMMARY: The below listed public land in Lincoln County, Nevada has been determined suitable for disposal. It will be sold under direct sale procedures in accordance with Sections 203 and 209 of the Federal Land Policy and Management Act of 1976 (90 Stat. 2750, 43 U.S.C. 1713, 1719, and 1740) at not less that fair market value (FMV).

DATES: For a period of 45 days from the date of publication of this notice in the Federal Register, interested parties may submit comments to the Assistant Field Manager, Nonrenewable Resources, Ely Field Office.

ADDRESSES: Written comments should be addressed to: Bureau of Land Management, Jeffrey A. Weeks, Assistant Field Manager, HC 33 Box 33500, Ely, Nevada 89301-9408.

FOR FURTHER INFORMATION CONTACT: Detailed information concerning the sale, including the reservation, sale procedures and conditions, planning and environmental documents, are available at the Ely Field Office of the Bureau of Land Management, at 702 North Industrial Way, Ely, Nevada 89301, or by calling Kevin Finn at (775) 289-1849.

SUPPLEMENTARY INFORMATION: The following described parcel of land situated in Lincoln County, Nevada is being offered at direct sale to resolve a long standing, inadvertent trespass. Sale price of the 1.25 acres is $5000. The parcel is described below.

Mount Diablo Meridian, Nevada

T. 2 S., 68 E., Sec. 6; E1/2E1/2E1/2E1/4SW1/4SE1/4.

1.25 acres, more or less.

The applicant will be required to pay a $50.00 non-refundable filing fee in conjunction with the final payment for processing of the conveyance of the locatable mineral interests. The terms and conditions applicable to the sale are as follows:

1. All leasable and saleable mineral deposits are reserved on land sold; permittees, licenses, and licensees, and lessees, retain the right to prospect for, mine, and remove the minerals owned by the United States under applicable law and any regulations that the Secretary of the Interior may prescribe, including all necessary access and exit rights.

2. A right-of-way is reserved for ditches and canals constructed by authority of the United States under the Act of August 30, 1890 (43 U.S.C. 945).

3. All land parcels are subject to all valid and existing rights. Encumbrances of record are available for review during business hours, 7:30 to 4:30 p.m., Monday through Friday, at the Bureau of Management, Ely Field Office, 702 North Industrial Way, Ely, Nevada.

4. The purchaser, by accepting a patent, agrees to indemnify, defend, and hold harmless the United States from any costs, damages, claims, causes of action, penalties, fines, liabilities, and judgements of any kind or nature arising from the past, present, and future acts or omissions of the patentee or their employees, agents, contractors, or lessees, or any third party, arising out of, or in connection with, the patentee's use, occupancy, or operations of the patented real property. The indemnification and hold harmless agreement includes, but is not limited to, acts and omissions of the patentee and their employees, agents, contractors, or lessees, or any third party, arising out of or in connection with the use and/or occupancy of the patented real property which has already resulted or does hereafter result in: (1) Violation of federal, state, and local laws and regulations that are now, or may in the future become, applicable to the real property: (2) Judgements, claims or demands of any kind assessed against the United States: (3) Costs, expenses, or damages of any kind incurred by the United States: (4) or threatened releases of solid or hazardous waste(s) and/or hazardous substance(s), as defined by federal or state environmental laws; off, on, into or under land, property and other interests of the United States; (5) Other activities by which solids or hazardous substances or wastes, as defined by federal and state environmental laws are generated, released, stored, used or otherwise disposed of on the patented real property, and any cleanup response, remedial action, or other actions related in any manner to said solid or hazardous substances or wastes; or (6) Natural resources damages as defined by federal and state law. This covenant shall be construed as running with the patented real property and may be enforced by the United States in a court of competent jurisdiction.

For a period of 45 days from the date of publication of this notice in the Federal Register, the general public and interested parties may submit comments to the Assistant Field Manager, Nonrenewable Resources, Ely Field Office, 702 North Industrial, Ely, Nevada 89301. Any adverse comments will be reviewed by the Nevada State Director, who may sustain, vacate, or modify this realty action. In the absence of any adverse comments, the realty action will become the final determination of the Department of the Interior. The Bureau of Land Management may accept or reject any or all offers, or withdraw any land or interest in the land from sale, if, in the opinion of the authorized officer, communication of the sale would be fully consistent with FLPMA or other applicable laws or is determined not in the public interest. Any comments received during this process, as well as the commentor's name and address, will be available to the public in the administrative record and/or pursuant to the Freedom of Information Act request. You may indicate for the record that you do not wish your name and/address made available to the public. Any determinations by the Bureau of Land Management to release or withhold the names and/or addresses of those who comment will be made on a case-by-case basis. A commentor's request to have their name and/or address withheld from public release will be honored to the extent permissible by law. The identified parcel will not be offered for sale until at least 60 days after the date of publication of this notice in the Federal Register.

Dated: September 21, 2001.
Jeffrey A. Weeks,
Assistant Field Manager, Nonrenewable Resources.

[FR Doc. 01-31771 Filed 12-26-01; 8:45 am]

BILLING CODE 4310-HC-M